DEPARTMENT OF DEFENSE

Office of the Secretary

[Transmittal No. 23-15]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 23-15, Policy Justification, and Sensitivity of Technology.

Dated: November 21, 2024.
Stephanie J. Bost,
Alternate OSD Federal Register Liaison Officer, Department of Defense.

BILLING CODE 6001-FR-P

BILLING CODE 6001-FR-C

Transmittal No. 23-15

Notice of Proposed Issuance of Letter of Offer Pursuant to Section 36(b)(1) of the Arms Export Control Act, as amended

(i) Prospective Purchaser: Kingdom of Saudi Arabia

(ii) Total Estimated Value:

Major Defense Equipment * | $ 60 million
Other | $522 million
Total | $582 million
Funding Source: National Funds.

(iii) Description and Quantity or Quantities of Articles or Services Under Consideration for Purchase: The Government of Saudi Arabia has requested to buy aircraft hardware and software modifications and support to replenish and modernize its RE-3A Tactical Airborne Surveillance System (TASS) aircraft, including:

Major Defense Equipment (MDE):

Seven (7) Embedded Global Positioning System/Inertial Navigation System (GPS/INS) (EGI) Security Devices, Airborne, with Selective Availability Anti-Spoofing Module (SAASM) or M-Code Capability

Five (5) L3Harris BlackRock Communications Intelligence Sensor Suites

Non-MDE:

Also included are KY-100M narrowband/wideband secure communications terminals; KIV-77 MODE 4/5 Identification Friend or Foe (IFF) cryptographic appliques; AN/PYQ-10 Simple Key Loaders; integrated electronic intelligence (ELINT)/signals intelligence (SIGINT) systems; L-3 Communication Systems-West (CSW) multiband receivers/transmitters; ARC-210 radios; high frequency (HF) radios; secure communications equipment; precision navigation and cryptographic devices; aircraft support and support equipment; test and integration support; equipment; spare and repair parts; consumables and accessories; repair and return support; United States (U.S.) Government and contractor engineering, technical, and logistics support services; studies and surveys; and other related elements of logistics and program support.

(iv) Military Department: Air Force (SR-D-QDO)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: December 4, 2023

* As defined in Section 47(6) of the Arms Export Control Act.

POLICY JUSTIFICATION

Saudi Arabia—RE-3A Tactical Airborne Surveillance System Aircraft Modernization

The Kingdom of Saudi Arabia has requested to buy aircraft hardware and software modifications and support to replenish and modernize its RE-3A Tactical Airborne Surveillance System (TASS) aircraft, including: seven (7) Embedded Global Positioning System/Inertial Navigation System (GPS/INS) (EGI) security devices, Airborne, with Selective Availability Anti-Spoofing Module (SAASM) or M-Code capability, and five (5) L3Harris BlackRock Communications Intelligence Sensor Suites. Also included are KY-100M narrowband/wideband secure communications terminals; KIV-77 MODE 4/5 Identification Friend or Foe (IFF) cryptographic appliques; AN/PYQ-10 Simple Key Loaders; integrated electronic intelligence (ELINT)/signals intelligence (SIGINT) systems; L-3 Communication Systems-West (CSW) multiband receivers/transmitters; ARC-210 radios; high frequency (HF) radios; secure communications equipment; precision navigation and cryptographic devices; aircraft support and support equipment; test and integration support; equipment; spare and repair parts; consumables and accessories; repair and return support; U.S. Government and contractor engineering, technical, and logistics support services; studies and surveys; and other related elements of logistics and program support. The estimated total cost is $582 million.

This proposed sale will support the foreign policy goals and national security objectives of the United States by improving the security of a partner country that is a force for political stability and economic progress in the Gulf Region.

The proposed sale will improve Saudi Arabia's surveillance capability to counter current and future regional threats, strengthen its homeland defense, and improve interoperability with systems operated by U.S. forces and other Gulf Region partners. Saudi Arabia will have no difficulty absorbing these systems into its armed forces.

The proposed sale of this equipment and support will not alter the basic military balance in the region.

The principal contractor will be L3 Technologies, Greenville, TX. There are no known offset agreements proposed in connection with this potential sale.

Implementation of this proposed sale will not require the assignment of any additional U.S. Government or contractor representatives to Saudi Arabia.

There will be no adverse impact on U.S. defense readiness as a result of this proposed sale.

Transmittal No. 23-15

Notice of Proposed Issuance of Letter of Offer Pursuant to Section 36(b)(1) of the Arms Export Control Act

Annex

Item No. vii

(vii) Sensitivity of Technology:

1. The Embedded Global Positioning System/Inertial Navigation System (GPS/INS) (EGI) with Selective Availability Anti-Spoofing Module (SAASM)—or M-Code receiver when available—and Precise Positioning Service (PPS) is a self-contained navigation system that provides the following: acceleration, velocity, position, attitude, platform azimuth, magnetic and true heading, altitude, body angular rates, time tags, and coordinated universal time (UTC) synchronized time. SAASM or M-Code enables the GPS receiver access to the encrypted P(Y or M) signal, providing protection against active spoofing attacks.

2. The L3Harris BlackRock is a communications intelligence (COMINT) system comprised of multiple Direction Finding (DF) antenna arrays, a Radio Frequency (RF) distribution system, software defined tuners, and a reconfigurable processing solution hosting the applications. The BlackRock provides COMINT processing of over 100 simultaneous signals for complete situational awareness of modern communications environments.

3. The KY-100M is a lightweight terminal for secure voice and data communications. The KY-100M provides wideband/narrowband half-duplex communication. Operating in tactical ground, marine, and airborne applications, the KY-100M enables secure communication with a broad range of radio and satellite equipment.

4 The Electronic Intelligence (ELINT) system is composed of Automatic (L3H Corvus) and Manual (SNC Small SwaP Digital SIGINT system) ELINT systems utilizing Left-Hand Side LHS) and Right-Hand Side (RHS) Interferometer arrays, signal tuners, processing/high speed data storage components, Radio Frequency (RF) distribution system, LHS and RHS steerable beam antennas and a 360-degree spin Direction Finding (DF) antennas.

5. The AN/APQ-10C Simple Key Loader is a handheld fill device for securely receiving, storing, and transferring data between cryptographic and communications equipment.

6. The L-3 Communication Systems-West (CSW) Multiband Receiver/Transmitter is a lightweight, handheld military radio that provides an integrated capability to receive and view battlefield video with advanced tactical voice and data communications.

7. The ARC-210 UHF/VHF secure radio with HAVE QUICK II/SATURN is a voice communications radio system that can operate in either normal, secure, and/or jam-resistant modes.

8. The highest level of classification of defense articles, components, and services included in this potential sale is SECRET.

9. If a technologically advanced adversary were to obtain knowledge of the hardware and software elements, the information could be used to develop countermeasures or equivalent systems which might reduce system effectiveness or be used in the development of a system with similar or advanced capabilities.

10. A determination has been made that the Government of Saudi Arabia can provide substantially the same degree of protection for the sensitive technology being released as the U.S. Government. This sale is necessary in furtherance of the U.S. foreign policy and national security objectives outlined in the Policy Justification.

11. All defense articles and services listed in this transmittal are authorized for release and export to Saudi Arabia.

[FR Doc. 2024-27774 Filed 11-26-24; 8:45 am]

BILLING CODE 6001-FR-P